DEPARTMENT OF COMMERCE

National Oceanic and Atmospheric Administration

[I.D. 080701E]

Proposed Information Collection; Comment Request; Northwest Region Gear Identification Requirements; Correction

AGENCY: National Oceanic and Atmospheric Administration (NOAA).

ACTION: Notice.

SUMMARY: The Department of Commerce published a notice of proposed information collection on August 10, 2001. This notice makes a correction to that document.

SUPPLEMENTARY INFORMATION:

Need for Correction

In the August 10, 2001, issue of the Federal Register (FR Doc. 01-20118) “Proposed Information Collection; Comment Request; Northeast Region Gear Identification Requirements,” the title should have read “Proposed Information Collection; Comment Request; Northwest Region Gear Identification Requirements.” All other information remains unchanged.

Dated: August 31, 2001.
Gwellnar Banks,
Management Analyst, Office of the Chief Information Officer.

[FR Doc. 01-22639 Filed 9-7-01; 8:45 am]

BILLING CODE 3510-22-S